DEPARTMENT OF ENERGY

Federal Energy Regulatory Commission

[Project No. 13447-000]

McGinnis, Inc.; Notice of Preliminary Permit Application Accepted for Filing and Soliciting Comments, Motions To Intervene, and Competing Applications

June 25, 2009.

On April 29, 2009, McGinnis, Inc., filed an application for a preliminary permit, pursuant to section 4(f) of the Federal Power Act, proposing to study the feasibility of the McAlpine Hydrokinetic Project, located on the Ohio River, in Jefferson County, Kentucky, and Clark County, Indiana. The sole purpose of a preliminary permit, if issued, is to grant the permit holder priority to file a license application during the permit term. A preliminary permit does not authorize the permit holder to perform any land disturbing activities or otherwise enter upon lands or waters owned by others without the owners' express permission.

The proposed project would consist of: (1) A 100 to 300-foot-long by 20 to 52-foot-wide barge spudded down to the riverbed; (2) 10 6-8-foot-long by 6-8-foot-diameter turbine-generators mounted in line along the side of the barge; (3) one armored, high-voltage cable transmitting the generated power to the existing transmission line located adjacent to the proposed project area; and (4) appurtenant facilities. The proposed project would generate about 1,533 megawatt-hours.

Applicant Contact: Bruce D. McGinnis, Sr., McGinnis, Inc., P.O. Box 534, 502 Second St. Ext., South Point, OH 45680, phone: (740) 377-4391.

FERC Contact: Sergiu Serban, 202-502-6211.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application, can be viewed or printed on the “eLibrary” link of the Commission's Web site at http://www.ferc.gov/docs-filing/elibrary.asp. Enter the docket number (P-13447) in the docket number field to access the document. For assistance, call toll-free 1-866-208-3372.

Kimberly D. Bose,
Secretary.

[FR Doc. E9-15736 Filed 7-2-09; 8:45 am]

BILLING CODE P